DEPARTMENT OF ENERGY

Federal Energy Regulatory Commission

[Project No. 13642-002]

GB Energy Park, LLC; Notice of Preliminary Permit Application Accepted for Filing and Soliciting Comments, Motions To Intervene, and Competing Applications

On May 1, 2013, GB Energy Park, LLC filed an application for a preliminary permit, pursuant to section 4(f) of the Federal Power Act (FPA), proposing to study the feasibility of the Gordon Butte Pumped Storage Project (project) to be located near Martinsdale, Meagher County, Montana. The sole purpose of a preliminary permit, if issued, is to grant the permit holder priority to file a license application during the permit term. A preliminary permit does not authorize the permit holder to perform any land-disturbing activities or otherwise enter upon lands or waters owned by others without the owners' express permission.

The proposed project would consist of the following:

Upper Reservoir

(1) A new 50-foot-high, 9,000-foot-long earthen and roller compacted concrete embankment; (2) a new 3,000-foot-long, 1,000-foot-wide, 50- to 75-foot-deep upper reservoir, with a surface area of 50 acres and a storage capacity of 4,050 acre-feet at a normal maximum surface elevation of 6,020 feet; (3) a new 25-foot-diameter, 4,000-foot-long concrete- and steel-lined horizontal tunnel conveying flows to the powerhouse; and (4) a new powerhouse adjacent to the lower reservoir containing four 100-megawatt (MW) turbine generator units having a total installed capacity of 400 MW.

Lower Reservoir

(1) A new 50-foot-high, 10,000-foot-long earthen and roller compacted concrete embankment; (2) a new 5,000-foot-long, 1,000-foot-wide, 50- to 75-foot-deep lower reservoir with a surface area of 80 acres and a storage capacity of 4,050 acre-feet at a normal maximum surface elevation of 4,990 feet; (3) option of three flow lines: (a) An existing canal carrying flows diverted from Cottonwood Creek by an existing diversion structure to the project; (b) a new pipeline to convey flows to the project from Martinsdale reservoir; or (c) a private reservoir; (4) a new substation; (5) option of two transmission lines: (a) A new 5.7-mile-long, 500-kilovolt (kV) transmission line interconnecting with an existing 500-kV line, or (b) a new 1.1-mile-long, 100-kV transmission line interconnecting to an existing 100-kV line; (6) new 20-foot-wide gravel access roads along the outside and top of both reservoirs' embankments; and (7) appurtenant facilities.

The proposed project would have an average annual generation of 1,300 gigawatt-hours.

Applicant Contact: Mr. Carl Borgquist, GB Energy Park, LLC, P.O. Box 309, Bozeman, MT 59771; phone: (406) 585-3006.

FERC Contact: Dianne Rodman; phone: (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13642) in the docket number field to access the document. For assistance, contact FERC Online Support.

Dated: June 5, 2013.
Kimberly D. Bose,
Secretary.

[FR Doc. 2013-13802 Filed 6-10-13; 8:45 am]

BILLING CODE 6717-01-P